NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 26, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Records Management Services (ACNR), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Grain Inspection, Packers, and Stockyards Administration (N1-545-08-11, 21 items, 20 temporary items). Records of the Official Services Division, including general correspondence; interim and draft reports; records of testing services and evaluations performed for outside entities such as weighing, inspection, and reinspection; training records; and records created in calibrating scales and other measures. Proposed for permanent retention are final reports for collaborative studies.

2. Department of Agriculture, Grain Inspection, Packers, and Stockyards Administration (N1-545-11-4, 1 item, 1 temporary item). Master files of an electronic information system used to track and manage workflow in administrating inspection, weighing, certification, and testing services.

3. Department of Agriculture, Risk Management Agency (N1-258-08-12, 4 items, 3 temporary items). Records containing information on establishing price rates for individual crops and other general actuarial documentation. Proposed for permanent retention are records related to program creation and establishment of actuarial rates and insurance offers.

4. Department of the Army, Agency-wide (N1-AU-10-26, 1 item, 1 temporary item). Master files of electronic information systems containing information relating to recreation and non-appropriated fund programs, including property management, banking and investment, event planning, library management, and financial planning files.

5. Department of the Army, Agency-wide (N1-AU-10-29, 1 item, 1 temporary item). Master files of an electronic information system containing biometric information used to issue identification badges to access U.S. military bases abroad.

6. Department of the Army, Agency-wide (N1-AU-10-35, 1 item, 1 temporary item). Master files of an electronic information system containing information on military construction projects.

7. Department of the Army, Agency-wide (N1-AU-10-40, 1 item, 1 temporary item). Master files of an electronic information system used for construction project quality management and contract administration.

8. Department of the Army, Agency-wide (N1-AU-10-47, 2 items, 2 temporary items). Master files of an electronic information system used to automate maintenance operations. Included are equipment records, repair parts documentation, labor costs, and work orders requests.

9. Department of the Army, Agency-wide (N1-AU-10-53, 1 item, 1 temporary item). Master files of an electronic information system containing information about projected acquisitions projects.

10. Department of the Army, Agency-wide (N1-AU-10-56, 1 item, 1 temporary item). Master files of an electronic information system containing information relating to repair requests.

11. Department of Commerce, National Oceanic and Atmospheric Administration (N1-370-11-4, 2 items, 2 temporary items). Master files and outputs of an electronic information system used to capture and display positional data on vessels and their location for fisheries management purposes.

12. Department of Health and Human Services, Agency for Healthcare Research and Quality (N1-510-09-6, 6 items, 3 temporary items). Master files of an electronic information system containing ad-hoc survey data on the quality of patient care and culture of safety in healthcare facilities. Also includes non-significant reports and publications. Proposed for permanent retention are master files of a related, larger system containing survey data on health plans, safety, and patient care, as well as significant reports and publications including aggregate data from both systems.

13. Department of Health and Human Services, Food and Drug Administration (N1-88-11-1, 1 item, 1 temporary item). Letters certifying use of digital signatures by firms submitting electronic regulatory submissions.

14. Department of Transportation, Federal Railroad Administration (N1-399-08-8, 5 items, 3 temporary items). Master files of an electronic information system containing information used to process and track railroad violation case files, such as tracking details, attorney notes, penalty information, violation proof, and railroad information. Also included are monthly enforcement and civil penalty case reports. Proposed for permanent retention are the Annual Civil Penalty report and the Annual Enforcement report.

Dated: September 20, 2011.
Paul M. Wester, Jr.,
Chief Records Officer for the U.S. Government.

[FR Doc. 2011-24772 Filed 9-23-11; 8:45 am]

BILLING CODE 7515-01-P